DEPARTMENT OF HEALTH AND HUMAN SERVICES

National Institutes of Health

National Institute of Dental & Craniofacial Research; Notice of Meeting

Pursuant to section 10(d) of the Federal Advisory Committee Act, as amended (5 U.S.C. Appendix 2), notice is hereby given of a meeting of the Board of Scientific Counselors, National Institute of Dental and Craniofacial Research.

The meeting will be open to the public as indicated below, with attendance limited to space available. Individuals who plan to attend and need special assistance, such as sign language interpretation or other reasonable accommodations, should notify the Contact Person listed below in advance of the meeting.

The meeting will be closed to the public as indicated below in accordance with the provisions set forth in section 552b(c)(6), title 5 U.S.C., as amended for the review, discussion, and evaluation of individual intramural programs and projects conducted by the National Institute of Dental & Craniofacial Research, including consideration of personnel qualifications and performance, and the competence of individual investigators, the disclosure of which would constitute a clearly unwarranted invasion of personal privacy.

Name of Committee: Board of Scientific Counselors, National Institute of Dental and Craniofacial Research Intramural Laboratory Review.

Date: June 1-3, 2003.

Closed: June 1, 2003, 3 p.m. to 7 p.m.

Agenda: To review and evaluate personal qualifications and performance, and competence of individual investigators.

Place: Hyatt Regency Bethesda, One Bethesda Metro Center, 7400 Wisconsin Avenue, Bethesda, MD 20814.

Open: June 2, 2003, 8:30 a.m. to 12:10 p.m.

Agenda: PI Presentations.

Place: NIH, Building 30, Room 117, Bethesda, MD 20892.

Closed: June 2, 2003, 12:10 p.m. to 1:30 p.m.

Agenda: To review and evaluate bSC discussion.

Place: NIH, Building 30, Room 117, Bethesda, MD 20892.

Open: June 2, 2003, 1:30 a.m. to 5 p.m.

Agenda: PI Presentations.

Place: NIH, Building 30, Room 117, Bethesda, MD 20892.

Closed: June 2, 2003, 5 p.m. to 7 p.m.

Agenda: To review and evaluate bSC discussion.

Place: NIH, Building 30, Room 117, Bethesda, MD 20892.

Open: June 3, 2003, 8:30 a.m. to 12:10 p.m.

Agenda: PI Presentations.

Place: NIH, Building 30, Room 117, Bethesda, MD 20892.

Closed: June 3, 2003, 12:10 p.m. to 3:15 p.m.

Agenda: To review and evaluate bSC meetings/exit interviews.

Place: NIH, Building 30, Room 117, Bethesda, MD 20892.

Contact Person: J. Ricardo Martinez, MD, MPH, Assoc. Director for Program Development, Office of the Director, National Institute of Dental & Craniofacial Research, 31 Center Drive, Bldg. 31, Rm. 5B55, Bethesda, MD 20892. (301) 451-6229.

Information is also available on the Institute's/Center's home page: www.nidcr.nih.gov/discover/bscmtgs.htm, where an agenda and any additional information for the meeting will be posted when available.

(Catalogue of Federal Domestic Assistance Program Nos. 93.121, Oral Diseases and Disorders Research, National Institutes of Health, HHS.)

Dated: April 17, 2003.
Anna Snouffer,
Acting Director, Office of Federal Advisory Committee Policy.

[FR Doc. 03-10185 Filed 4-23-03; 8:45 am]

BILLING CODE 4140-01-M